DEPARTMENT OF JUSTICE

Antitrust Division

United States v. Waste Management, Inc. et al.

On October 23, 2001, a Joint Motion to Modify the Final Judgment was filed with the United States District Court for the Eastern District of New York, in a civil antitrust case, United States et al. v. Waste Management, Inc. et al., Civil No 98 CV 7168. On December 5, 2001, the United States published a notice in the Federal Register seeking public comments on the proposed modification to the Final Judgment during a 60 day period. The comment period will expire on February 4, 2002. Given recent mail delivery interruptions in Washington, DC., and current uncertainties involving the resumption of timely mail service, the Department of Justice strongly encourages that comments be submitted via e-mail or fax to J. Robert Kramer II, Chief, Litigation II Section, Antitrust Division, U.S. Department of Justice, 1401 H Street, NW., Suite 3000, Washington, DC 20530 (facsimile: (202) 307-5802; e-mail comments.lit2@usdoj.gov; telephone: (202) 307-0924).

Constance K. Robinson,
Director of Operations & Merger Enforcement.

[FR Doc. 02-40 Filed 1-2-02; 8:45 am]

BILLING CODE 4410-11-M